DEPARTMENT OF TRANSPORTATION

Federal Aviation Administration

14 CFR Part 39

[Docket No. 2001-SW-34-AD; Amendment 39-12948; AD 2002-23-04]

RIN 2120-AA64

Airworthiness Directives; Eurocopter France Model SA-365N, SA-365N1, AS-365N2, and AS 365 N3 Helicopters

AGENCY: Federal Aviation Administration, DOT.

ACTION: Final rule.

SUMMARY: This amendment adopts a new airworthiness directive (AD) for the specified Eurocopter France (ECF) model helicopters that requires inspecting the 9-degree frame (frame) for the correct edge distance of the two attachment holes for the reinforced latch support and for a crack and repairing the frame if necessary. This amendment is prompted by the detection of a fatigue crack on the left-hand (LH) side of the frame during maintenance. The actions specified by this AD are intended to prevent failure of the frame due to a crack at the latch support, loss of a passenger door, damage to the rotor system, and subsequent loss of control of the helicopter.

DATES: Effective January 3, 2003.

The incorporation by reference of certain publications listed in the regulations is approved by the Director of the Federal Register as of January 3, 2003.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., Suite 700, Washington, DC.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: A proposal to amend 14 CFR part 39 to include an AD for ECF Model SA-365N, SA-365N1, AS-365N2, and AS 365 N3 helicopters was published in the Federal Register on August 14, 2002 (67 FR 52896). That action proposed to require inspecting the frame for the correct edge distance of the two attachment holes for the reinforced latch support and for a crack and repairing the frame if necessary.

The Direction Generale De L'Aviation Civile (DGAC), the airworthiness authority for France, notified the FAA that an unsafe condition may exist on ECF Model SA-365N, SA-365N1, AS-365N2, and AS 365 N3 helicopters incorporating MOD 0753B31. The DGAC advises of the discovery of a crack on the left-hand side of the frame.

ECF has issued AS 365 Alert Service Bulletin No. 53.00.42, dated January 31, 2001 (ASB). The ASB specifies measuring the edge distance of the attachment holes for the reinforced latch support of the frame, inspecting for a crack, installing a repair on the frame or stop-drilling the crack, and monitoring the crack for continued growth. The DGAC classified this ASB as mandatory and issued AD No. 2001-060-052(A), dated February 21, 2001, to ensure the continued airworthiness of these helicopters in France.

Interested persons have been afforded an opportunity to participate in the making of this amendment. No comments were received on the proposal or the FAA's determination of the cost to the public. The FAA has determined that air safety and the public interest require the adoption of the rule as proposed except for minor editorial changes. These changes will neither increase the economic burden on operators nor increase the scope of the AD.

The FAA estimates that this AD will:

• Affect 45 helicopters of U.S. registry,

• Require 3 work hours per helicopter to visually inspect all helicopters,

• Require 8 work hours to repair an estimated 10 helicopters to correct edge distance only, and

• Require 12 work hours to repair edge distance and cracks for approximately five helicopters.

The average labor rate is $60 per work hour. Required parts will cost approximately $200, assuming a repair is necessary for 15 helicopters. Based on these figures, the total cost impact of the AD on U.S. operators is estimated to be $19,500.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by Reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-23-04 Eurocopter France: Amendment 39-12948. Docket No. 2001-SW-34-AD.

Applicability: Model SA-365N, SA-365N1, AS-365N2, and AS 365 N3 helicopters, with MOD 0753B31 installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent failure of the 9-degree frame (frame) due to a crack at the latch support, loss of a passenger door, damage to the rotor system, and subsequent loss of control of the helicopter, accomplish the following:

(a) Within 50 hours time-in-service, inspect each frame by measuring the edge distance at the two 5.2 mm (0.205 inch) diameter attachment holes for the latch support for the passenger door in accordance with the Accomplishment Instructions, paragraph 2.B.1., of Eurocopter France AS 365 Alert Service Bulletin 53.00.42, dated January 31, 2001 (ASB). Inspect the area around the attachment holes for a crack.

(1) If the edge distance of both attachment holes is equal to or more than 8 mm (0.315 inch) and no crack is present, no action is required by this AD.

(2) If the edge distance is less than 8 mm and no crack is present, before further flight, install a reinforcing plate in accordance with the Accomplishment Instructions paragraph 2.B.2. of the ASB. Accomplishing the requirements of paragraph 2.B.2. of the ASB constitutes terminating action for the requirements of this AD.

(3) If there is a crack, before further flight, stop-drill the crack with a 3-millimeter diameter hole and repair the frame in accordance with the Accomplishment Instructions, paragraph 2.B.3., of the ASB. Accomplishing the requirements of paragraph 2.B.3. of the ASB constitutes terminating action for the requirements of this AD.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) The inspection and repair shall be done in accordance with the Accomplishment Instructions of Eurocopter France AS 365 Alert Service Bulletin 53.00.42, dated January 31, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., Suite 700, Washington, DC.

(e) This amendment becomes effective on January 3, 2003.

Note 3: The subject of this AD is addressed in Direction Generale De L'Aviation Civile (France) AD No. 2001-060-052(A), dated February 21, 2001.

Issued in Fort Worth, Texas, on November 6, 2002.
David A. Downey,
Manager, Rotorcraft Directorate, Aircraft Certification Service.

[FR Doc. 02-29155 Filed 11-27-02; 8:45 am]

BILLING CODE 4910-13-P